DEPARTMENT OF HEALTH AND HUMAN SERVICES

Centers for Disease Control and Prevention

[60Day-16-16KB; Docket No. CDC-2016-0010]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection project entitled “Measuring Perceived Self-Escape Competencies among Underground Mineworkers”. The purpose of this two-year information collection is to gather survey data from up to 800 underground coal miners to measure their perceived competence in the critical knowledge, skills, and abilities that could be required for successful escape from an underground mine emergency.

DATES: Written comments must be received on or before March 21, 2016.

ADDRESSES: You may submit comments, identified by Docket No. CDC-2016-0010 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Measuring Perceived Self-Escape Competencies among Underground Mineworkers—New—National Institute for Occupational Safety and Health (NIOSH), Centers for Disease Control and Prevention (CDC).

Background and Brief Description

The mission of the National Institute for Occupational Safety and Health (NIOSH) is to promote safety & health at work for all people through research and prevention. The Federal Mine Safety & Health Act of 1997, Public Law 91-173 as amended by Public Law 95-164, enables NIOSH to carry out research that is relevant to health and safety of workers in the underground coal industry. After a thorough review of United States' underground coal mine emergency escape preparedness and response, the National Academy of Sciences (NRC, 2013) has emphasized the need to improve underground mineworkers' ability to successfully escape a mine emergency. Specifically, several mine disasters of 2006 raised a number of issues about mine emergency preparedness and response particularly as they relate to self-escape competencies. The resulting federal regulations under the MINER Act of 2006, now require all underground coal miners receive Self Contained Self Rescuer (SCSR) and escape way training quarterly throughout the year and new emergency communications and tracking systems have been mandated and installed in underground coal mines.

NIOSH proposes this exploratory two-year study to better characterize the current state of miner self-escape competence and to answer the following questions:

• What gaps exist between what miners are required to do for self-escape and their perceptions of their actual capabilities?

• How might miner demographics and mine-specific characteristics (e.g., size, mining method, and geographic location) relate to perceived competence in self-escape knowledge, skills, abilities, and other characteristics? Based on the results of this and other concurrent exploratory work, interventions to increase mine escape competencies will be improved and/or developed and assessed which could lead to more standardized self-escape training and assessment throughout the industry.

The information collected will have practical utility in efforts to enhance the ability of miners to successfully escape from underground coal mines in the event of an emergency by identifying gaps in perceived competence in specific knowledge and skills in moving through the mine, avoiding dangers, and using protective equipment. This information collections will contribute to our understanding of actual miner capabilities from the perspective of the mineworkers themselves.

Data collection will occur above ground at a variety of coal mines (and other above ground facilities) to gather information from a diverse sample of mines to better reflect the variability (e.g., size, mining method, geographic location) that exists among mines and could impact self-escape procedures and resource availability. Variability in mineworker and mining site characteristics is key to generating a cross-sectional snapshot of current mineworkers' perceived self-escape competence and may reveal any potential relationships among these characteristics and perceived competence in a variety of self-escape KSAOs. This data collection will occur once for each mine site over the next 2 years (after OMB approval) and is designed to gather information not previously available. The results produced are expected to lead to recommendations for emphasis in new and/or existing KSAO training and preparation as well as to inform future self-escape training and research development.

Descriptive and inferential statistics on data obtained from the survey will be used to quantify miner self-escape competence and to identify any statistically significant relationships among aggregated miner characteristics and perceived competence. Finally, the data will serve as a gross baseline measure of miner self-escape competence to be directly compared to future data collection utilizing the identical data collection instrument.

NIOSH researchers will visit up to 20 underground coal mine sites to obtain informed consent from volunteer participants and administer a short paper and pencil survey. The survey will include demographic questions and 25 questions related to participants' perceived confidence in their own ability to escape their mine in the event of an emergency.

Participants will be mining personnel drawn from multiple operating underground coal mines to represent the variety within the industry. The timing of the data collection schedule will be flexible and modified as needed to minimize disruption to mine operations. No more than 800 miner volunteers will participate in the study over two years. Minimal time (< 5 minutes each) will be spent in recruitment and obtaining informed consent. The survey is expected to take no longer than 10 minutes to complete

The total estimated annualized burden hours are 101.

Estimated Annualized Burden Hours
Type of respondent | Form name | Number of respondents | Number of responses per respondent | Average burden per response (in hours) | Total burden hours
Mine Operator | Mine Recruitment Script | 10 | 1 | 5/60 | 1
Mine Worker | Individual Miner Recruitment Script | 400 | 1 | 5/60 | 33
Mine Worker | Survey | 400 | 1 | 10/60 | 67
Total |  |  |  |  | 101

Leroy A. Richardson,
Chief, Information Collection Review Office, Office of Scientific Integrity, Office of the Associate Director for Science, Office of the Director, Centers for Disease Control and Prevention.

[FR Doc. 2016-01041 Filed 1-20-16; 8:45 am]

BILLING CODE 4163-18-P